DEPARTMENT OF DEFENSE

Office of the Secretary; Meeting of the DoD Healthcare Quality Initiative Review Panel

AGENCY: Department of Defense.

ACTION: An executive/administration meeting for DoD Healthcare Quality Initiatives Review Panel has been scheduled for July 6 & 7, 2000.

SUMMARY: This notice set forth the meeting of the DoD Healthcare Quality Initiatives Review Panel. Notice of meeting is required under The Federal Advisory Committee Act (Pub. L. 92-463).

DATES: July 6 & 7, 2000.

ADDRESSES: Sheraton Crystal City, 1800 Jefferson Davis Hwy., Arlington, VA 22202.

TIME: July 6th, 5:30 p.m. to 8:30 p.m.; July 7th, 8:00 a.m. to 5:30 p.m.

FOR FURTHER INFORMATION CONTACT: For information please contact Gia Edmonds at (703) 933-8325.

Dated: June 23, 2000.
L.M. Bynum,
Alternate OSD Federal Register Liaison Officer, Department of Defense.

[FR Doc. 00-16578 Filed 6-29-00; 8:45 am]

BILLING CODE 5001-10-M